DEPARTMENT OF COMMERCE

National Oceanic and Atmospheric Administration

Agency Information Collection Activities; Submission to the Office of Management and Budget (OMB) for Review and Approval; Comment Request; Alaska Halibut Fisheries: Charter

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 28, 2023, during a 60-day comment period. This notice allows for an additional 30 days for public comments.

Agency: National Oceanic and Atmospheric Administration (NOAA), Commerce.

Title: Alaska Halibut Fisheries: Charter.

OMB Control Number: 0648-0575.

Form Number(s): None.

Type of Request: Regular submission (extension of a current information collection).

Number of Respondents: 560.

Average Hours per Response: Application for Annual Registration of CHPs: 15 minutes; Application for Military CHP: 30 minutes; Application for Transfer of CHP: 2 hours; Application for Transfer (Lease) Between IFQ and GAF: 1.5 hours; GAF Landing Report: 5 minutes; GAF Permit Log: 2 minutes; ADF&G Saltwater Sport Fishing Charter Trip Logbook: 4 minutes; and Appeals: 4 hours.

Total Annual Burden Hours: 3,876 hours.

Needs and Uses: The National Marine Fisheries Service (NMFS), Alaska Region, is requesting extension of a currently approved information collection for the Pacific halibut charter fishery off Alaska.

Management of and regulations for Pacific halibut (Hippoglossus stenolepis) in Alaska are developed on the international, Federal, and state levels by the International Pacific Halibut Commission (IPHC), the North Pacific Fishery Management Council, the NMFS Alaska Region, and the State of Alaska Department of Fish and Game (ADF&G). The IPHC and NMFS manage fishing for Pacific halibut through regulations established under authority of the Convention between the United States Halibut Fishery of the Northern Pacific Ocean and Bering Sea, the Northern Pacific Halibut Act of 1982 (16 U.S.C. 773), and section 303(b) of the Magnuson-Stevens Fishery Conservation and Management Act (16 U.S.C. 1801 et seq.).

NMFS manages the charter halibut fishery off Alaska under the Charter Halibut Limited Access Program (CHLAP; 75 FR 554, January 5, 2010) and the Pacific Halibut Catch Sharing Plan (CSP; 78 FR 75844, December 12, 2013). This information collection is necessary for NMFS to manage and administer the charter halibut fishery under the CHLAP and the CSP. Regulations that implement this information collection are at 50 CFR 300 subpart E and 50 CFR 679.5(l)(7). Information on the CHLAP and the CSP is on the NMFS Alaska Region website at https://www.fisheries.noaa.gov/alaska/resources-fishing/sport-halibut-fishing-alaska.

The CHLAP established new Federal Charter Halibut Permits (CHPs) for operators in the sport charter halibut fishery in IPHC regulatory Areas 2C (Southeast Alaska) and 3A (Central Gulf of Alaska). All charter halibut vessel operators in Areas 2C and 3A with clients on board must have a valid CHP on board during every charter vessel fishing trip. As the period to obtain a CHP, other than a military CHP or community CHP, ended in 2010, CHPs may now only be obtained through transfer. This information collection contains the applications used to annually register CHPs, to apply for new military CHPs, and to transfer CHPs. The application for a community CHP is approved under OMB Control Number 0648-0665. Information collected by these applications includes permit holder information or applicant information, and depending on the form, may include CHP identification, CHP ownership information and affiliation, a survey question on the use of the CHP, and transaction information for transfer of a CHP.

The CSP authorizes annual transfers of commercial halibut individual fishing quota (IFQ) as guided angler fish (GAF) to qualified CHP holders for harvest by charter vessel anglers in Area 2C or 3A. GAF enables CHP holders to lease a limited amount of IFQ from commercial quota shareholders to allow charter vessel anglers to harvest halibut in addition to, or instead of, the halibut harvested under the daily bag limit for charter anglers.

This information collection includes the application used to transfer Area 2C or 3A commercial halibut IFQ to a CHP holder for use as GAF or for the CHP holder to return unused GAF to the IFQ permit holder from which it was obtained. Information collected by this application includes permit holder information, IFQ permit information, CHP information, GAF permit information, and transaction information. NMFS, on approving the transfer of IFQ to GAF, issues a GAF permit, which authorizes the holder to allow charter vessel anglers to retain GAF halibut caught in the IPHC regulatory area specified on the permit.

This information collection also includes the GAF landing report and the GAF permit log. The GAF landing report is submitted by GAF permit holders and collects information on each GAF halibut retained by an angler on a charter vessel fishing trip in Area 2C or 3A. The GAF permit log is printed on the back of each GAF permit and is used by the permit holder to record the GAF landing report confirmation number and information on GAF halibut after a trip in which GAF halibut were retained.

If a GAF permit holder is unable to submit the GAF landings report electronically due to hardware, software, or internet failure for a period longer than the required reporting time, or a correction must be made to information already submitted, the permit holder must contact NOAA OLE by telephone. This information collection is revised to include a form for the non-electronic (manual) GAF landing report. This form will help streamline the submission of manual landing information for GAF permit holders and NOAA Office for Law Enforcement, and help ensure the correct information is submitted on time. The time and cost burden for the manual GAF landing report form remains the same as the previous estimates for the GAF landing report because the estimates allow for differences needed to complete and submit the report.

This information collection includes the logbook reporting requirements for the charter halibut fishery. The charter halibut sector in Areas 2C and 3A is managed to charter catch limits established under the CSP. Charter operators are required to record all halibut caught and kept by charter vessel anglers in the ADF&G Saltwater Charter Logbook. Logbook reporting is the basis for estimating annual charter harvests of halibut relative to the charter catch limits.

Affected Public: Individuals or households; Business or other for-profit organizations.

Frequency: Annually; As needed.

Respondent's Obligation: Required to Obtain or Retain Benefits, Mandatory.

Legal Authority: The Northern Pacific Halibut Act of 1982 (16 U.S.C. 773c); Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0575.

Sheleen Dumas,
Department PRA Clearance Officer, Office of the Under Secretary for Economic Affairs, Commerce Department.

[FR Doc. 2024-03747 Filed 2-22-24; 8:45 am]

BILLING CODE 3510-22-P